DEPARTMENT OF VETERANS AFFAIRS

38 CFR Part 21

RIN 2900-AO10

Vocational Rehabilitation and Employment Program—Changes to Subsistence Allowance

Correction

In rule document 2011-19473 appearing on pages 45697-45705 in the issue of August 1, 2011, make the following correction:

In the table on page 45703, in the first row, under the column “Year dollar”, “2010” should read “2012”.

[FR Doc. C1-2011-19473 Filed 8-10-11; 8:45 am]

BILLING CODE 1505-01-D